DEPARTMENT OF HOMELAND SECURITY

Coast Guard

33 CFR Part 117

[Docket No. USCG-2017-0991]

Drawbridge Operation Regulation; Hackensack River, Jersey City, NJ

AGENCY: Coast Guard, DHS.

ACTION: Notice of deviation from drawbridge regulation.

SUMMARY: The Coast Guard has issued a temporary deviation from the operating schedule that governs the Route 1 & 9 (Lincoln Highway) Bridge across the Hackensack River, mile 1.8, at Jersey City, New Jersey. The deviation is necessary to restrict bridge openings during the morning and afternoon rush hour periods to alleviate vehicular traffic congestion resulting from area roadway closures.

DATES: This deviation is effective from 12:01 a.m. on November 13, 2017 until 11:59 p.m. on April 1, 2018.

ADDRESSES: The docket for this deviation, USCG-2017-0991, is available at http://www.regulations.gov. Type the docket number in the “SEARCH” box and click “SEARCH”. Click on Open Docket Folder on the line associated with this deviation.

FOR FURTHER INFORMATION CONTACT: If you have questions on this temporary deviation, call or email Judy K. Leung-Yee, Bridge Management Specialist, First District Bridge Branch, U.S. Coast Guard; telephone 212-514-4336, email Judy.K.Leung-Yee@uscg.mil.

SUPPLEMENTARY INFORMATION: The owner of the bridge, the New Jersey Department of Transportation, requested a temporary deviation in order to complete rehabilitation of the adjacent Pulaski Skyway Bridge. The Route 1 & 9 Bridge across the Hackensack River, mile 1.8, at Jersey City, New Jersey is a vertical lift bridge with a vertical clearance of 35 feet at mean high water and 40 feet at mean low water in the closed position. The existing drawbridge operating regulations are listed at 33 CFR 117.5.

On September 9, 2016, the Coast Guard published a temporary final rule entitled, “Drawbridge Operation Regulation; Route 1 & 9 (Lincoln Highway) Bridge, Hackensack River, Jersey City, NJ,” under docket number USCG-2016-0173, in the Federal Register (81 FR 62366). Under the temporary final rule, from October 11, 2016 to September 30, 2017, the bridge was authorized not to open to vessel traffic between 6 a.m. and 10 a.m. and between 2 p.m. and 6 p.m., and tide dependent deep draft vessels could provide twelve hours advance notice for a bridge opening during rush hours.

Due to unanticipated project delays, the New Jersey Department of Transportation has requested to continue to restrict the bridge opening of the Route 1 & 9 Bridge allowing for completion of adjacent Pulaski Skyway bridge rehabilitation.

This temporary deviation will allow the Route 1 & 9 Bridge to open on signal from November 13, 2017 to April 1, 2017, except that the draw will not open to vessel traffic between 6 a.m. and 10 a.m. and between 2 p.m. and 6 p.m., Monday through Friday, except holidays. Tide dependent deep draft vessels may request bridge openings during the rush hour closure periods, provided that at least a twelve hour advance notice is given by calling the number posted at the bridge. The waterway is transited by recreational vessels and commercial vessels. Coordination with waterway users has indicated no objections to the proposed closure of the draw. Vessels able to pass through the bridge in the closed position may do so at anytime. The bridge will be able to open for emergencies. There is no alternate route for vessels to pass. The Coast Guard will also inform the users of the waterways through our Local and Broadcast Notices to Mariners of the change in operating schedule for the bridge so vessel operators may arrange their transits to minimize any impact caused by the temporary deviation.

In accordance with 33 CFR 117.35(e), the drawbridge must return to its regular operating schedule immediately at the end of the effective period of this temporary deviation. This deviation from the operating regulations is authorized under 33 CFR 117.35.

Dated: November 6, 2017.
Christopher J. Bisignano,
Supervisory Bridge Management Specialist, First Coast Guard District.

[FR Doc. 2017-24376 Filed 11-8-17; 8:45 am]

BILLING CODE 9110-04-P